DEPARTMENT OF TRANSPORTATION

Federal Highway Administration

Environmental Impact Statement; City of Missoula, Montana

AGENCY: Federal Highway Administration (FHWA), DOT.

ACTION: Notice of intent.

SUMMARY: The FHWA hereby gives notice that it intends to prepare an Environmental Impact Statement (EIS) for an urban corridor (involving Russell Street and South 3rd Street) all within the limits of the City of Missoula, Missoula County, Montana. The study will evaluate possible improvements to these existing roadways and all practical alignment alternatives.

FOR FURTHER INFORMATION CONTACT: Mr. Dale Paulson, Program Development Engineer, Federal Highway Administration, 2880 Skyway Drive, Helena, Montana 59602; Telephone: (406) 449-5303 ext. 239; Mr. Joel M. Marshik, Manager, Environmental Services, Montana Department of Transportation, 2701 Prospect Avenue, Helena, Montana 59602; Telephone: (406) 444-7632; or Mr. Joe Oliphant, Project Development Coordinator, City of Missoula, 435 Ryman Street, Missoula, Montana 59802-4207, Telephone: (406) 523-2877.

SUPPLEMENTARY INFORMATION:

Electronic Access

An electronic copy of this document may be downloaded using a modem and suitable communications software from the Government Printing Office's Electronic Bulletin Board Service at (202) 512-1661. Internet users may reach the Office of the Federal Register's home page at http://www.nara.gov/fedreg/ and the Government Printing Office's database at http://www.access.gpo.gov.

Background

The FHWA, in cooperation with the Montana Department of Transportation (MDT) and the City of Missoula, will prepare an EIS in response to the need for upgrading sections of two urban arterials (Russell Street and South 3rd Street) all within the limits of the City of Missoula, Missoula County, Montana. The Russell Street section begins at the intersection of Mount Avenue, and extends approximately 2.44 km (1.52 mi) northerly to the intersection of West Broadway Street. The South 3rd Street section begins at its intersection with Reserve Street and continues easterly for a distance of approximately 1.60 km (1.0 mi) until it intersects with Russell Street.

The project is needed to meet current and future demand of motorized vehicles, bicycles, pedestrians, and to improve safety. Alternatives are expected to include taking no action; widening of Russell Street; and widening of South 3rd Street. Other alternatives may become evident as a result of public and agency input during the scoping process. All build alternatives will include improvements to non-motorized facilities and will consider a range of transportation system management (TSM) and transportation demand management (TDM) measures. Possible configurations of the Russell Street bridge across the Clark Fork River, will also be considered in the study.

The EIS will examine the short and long-term impacts on the natural and built environment. The impact assessment will include (but not be limited to): Impacts on the social environment; changes in land use; aesthetics; changes in traffic; economic consequences; air, noise and water quality, wildlife, and fisheries. In addition, environmental justice aspects will be addressed as part of the impact assessment. The EIS will also examine measures to mitigate significant adverse impacts resulting from the proposed action.

Comments are being solicited from Federal, State, and local agencies, Tribes and from private organizations and citizens who have interest in this proposal. Public information meetings, feedback sessions, and other outreach efforts will be conducted to discuss the potential alignments.

The draft EIS will be available for public and agency review, and a public hearing will be held to receive comments. Public notice will be given of the time and place of all meetings and hearings. Comments and/or suggestions from all interested parties are requested, to ensure that the full range of all issues, and significant social and environmental issues in particular, are identified and reviewed. Comments or questions concerning this proposed action and/or its EIS should be directed to the FHWA, MDT or the City of Missoula at the addresses listed previously.

Authority: 23 U.S.C. 315; 49 CFR 1.48.

Issued on: October 11, 2000.
Dale W. Paulson,
Program Development Engineer, Federal Highway Administration.

[FR Doc. 00-26563 Filed 10-16-00; 8:45 am]

BILLING CODE 4910-22-P